DEPARTMENT OF LABOR

Mine Safety and Health Administration

30 CFR Part 75

[Docket No. MSHA-2025-0084]

RIN 1219-AC21

Ventilation Plan Approval Criteria

AGENCY: Mine Safety and Health Administration, Department of Labor.

ACTION: Proposed rule; extension of comment period.

SUMMARY: The Mine Safety and Health Administration (MSHA) is extending the comment period on the proposed rule titled, “Ventilation Plan Approval Criteria,” published in the Federal Register on July 1, 2025. In response to a request for additional time to develop and submit comments on the proposed rule, MSHA is extending the comment period for an additional 30 days—that is, from July 31, 2025, to September 2, 2025.

DATES: The comment period for the proposed rule that was published on July 1, 2025, at 90 FR 28443, is extended. All comments must be received on or before September 2, 2025.

ADDRESSES: All submissions must include RIN 1219-AC21 or Docket No. MSHA-2025-0084. You should not include personal or proprietary information that you do not wish to disclose publicly. If you mark parts of a comment as “business confidential” information, MSHA will not post those parts of the comment. Otherwise, MSHA will post all comments without change, including any personal information provided. MSHA cautions against submitting personal information.

You may submit comments and informational materials, clearly identified by RIN 1219-AC21 or Docket No. MSHA-2025-0084, by any of the following methods:

1. Federal E-Rulemaking Portal: https://www.regulations.gov. Follow the online instructions for submitting comments for MSHA-2025-0084. A brief summary of this document will be available at https://www.regulations.gov/docket/MSHA-2025-0084.

2. Email: zzMSHA-comments@dol.gov. Include “RIN 1219-AC21” in the subject line of the message.

3. Regular Mail or Hand Delivery: MSHA, Office of Standards, Regulations, and Variances, Room C3522, 200 Constitution Avenue NW, Washington, DC 20210. Before visiting MSHA in person, call 202-693-9440 to make an appointment. No telefacsimiles (“faxes”) will be accepted.

FOR FURTHER INFORMATION CONTACT: Jessica D. Senk, Acting Director, Office of Standards, Regulations, and Variances, MSHA at 202-693-9440 (voice). This is not a toll-free number.

SUPPLEMENTARY INFORMATION: On July 1, 2025, MSHA published in the Federal Register the proposed rule titled, “Ventilation Plan Approval Criteria” (90 FR 28443). The proposed rule is available at the Federal eRulemaking Portal, https://regulations.gov. The proposed rule would amend MSHA's existing ventilation plan regulations to eliminate the provision that allows the District Manager to require additional measures to be included in ventilation plans.

The public comment period for this proposed rule was scheduled to close on July 31, 2025, 30 days after publication of the proposed rule. MSHA received a request from a commenter for an extension of the comment period so that commenters could properly review, research, and develop meaningful comments that could be valuable in finalizing the rule. The commenter asked for an additional 60 days.

After reviewing the comment, MSHA has determined that it is appropriate to extend the public comment period until September 2, 2025, to provide stakeholders and interested parties an additional 30 days to review the proposal and prepare comments.

James P. McHugh,
Deputy Assistant Secretary for Policy Mine Safety and Health Administration.

[FR Doc. 2025-13750 Filed 7-21-25; 8:45 am]

BILLING CODE 4520-43-P